DEPARTMENT OF LABOR

Employment and Training Administration

[TA-W-51,854]

Factory Services, inc., Mineola, NY; Notice of Termination of Investigation

Pursuant to section 221 of the Trade Act of 1974, as amended, an investigation was initiated on May 22, 2003, in response to a worker petition filed by a company official on behalf of workers at Factory Services, Inc., Mineola, New York.

The petitioner has requested that the petition be withdrawn. Consequently, the investigation has been terminated.

Signed at Washington, DC this 20th day of June 2003.
Richard Church,
Certifying Officer, Division of Trade Adjustment Assistance.

[FR Doc. 03-16912 Filed 7-2-03; 8:45 am]

BILLING CODE 4510-30-M